DEPARTMENT of ENERGY

Federal Energy Regulatory Commission

[Docket No. RP03-135-000]

Southern Star Central Gas Pipeline; Notice of Informal Settlement Conference

January 7, 2004.

Take notice that an informal settlement conference will be convened in these proceedings commencing at 1 p.m. on January 12, 2004, at the offices of the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Lorna Hadlock (202) 502-8737, e-mail Lorna.Hadlock@ferc.gov.

Magalie R. Salas,
Secretary.

[FR Doc. E4-57 Filed 01-14-04; 8:45 am]

BILLING CODE 6717-01-P